OFFICE OF PERSONNEL MANAGEMENT

Privacy Act of 1974; System of Records

AGENCY: Office of Personnel Management.

ACTION: Notice of new system of records.

SUMMARY: In accordance with the Privacy Act of 1974, the Office of Personnel Management (OPM) proposes to establish a new system of records titled “OPM/Central-26, FEDVIP, FLTCIP, and FSAFEDS Records.” This system of records contains information about individuals and their family members who have applied for, are enrolled in, or have been enrolled in any of three benefit programs administered by OPM: the Federal Employees Dental and Vision Insurance Program (FEDVIP), the Federal Long Term Care Insurance Program (FLTCIP), and the Federal Flexible Spending Account Program (FSAFEDS). This newly established system of records will be included in OPM's inventory of record systems.

DATES: Please submit comments on or before July 21, 2022. This new system is effective upon publication in the Federal Register, with the exception of the routine uses, which become effective July 26, 2022.

ADDRESSES: You may submit written comments by the following method:

Federal Rulemaking Portal ( https://www.regulations.gov): Follow the instructions for submitting comments. All submissions received must include the agency name and docket number for this Federal Register document. The general policy for comments and other submissions from members of the public is to make these submissions available for public viewing at https://www.regulations.gov as they are received without change, including any personal identifiers or contact information.

FOR FURTHER INFORMATION CONTACT: For general questions, please contact Dyan Dyttmer, 202-606-1412. For privacy questions, please contact Kellie Cosgrove Riley, Chief Privacy Officer, 202-360-6065.

SUPPLEMENTARY INFORMATION: In accordance with the Privacy Act of 1974, 5 U.S.C. 552a, the Office of Personnel Management proposes to establish a new system of records titled “OPM/Central-26, FEDVIP, FLTCIP, and FSAFEDS Records.” This system of records is being established to support OPM's administration of the Federal Employees Dental and Vision Insurance Program (FEDVIP), the Federal Long Term Care Insurance Program (FLTCIP), and the Federal Flexible Spending Account Program (FSAFEDS) and will contain information about individuals and their family members who have applied for, are covered under, or have been covered under one or more of these programs. The primary purpose of this system of records is to support the administration of these three programs, including enrollment confirmation, enrollment transactions, and premium/allotment processing and reconciliation, as well as to evaluate the effectiveness of these programs through statistical analysis, policy planning, and reporting.

FEDVIP is the Federal program that provides dental and vision insurance to eligible individuals, including Federal and United States Postal Service employees and annuitants, employees of the District of Columbia courts, miscellaneous groups enumerated at 5 U.S.C. 8901(1), retired members of the uniformed services, survivors of uniformed service members, and their eligible family members (dental and vision), family members of active duty uniformed services members, and reserve members of the uniformed services and their eligible family members (vision only). Under certain circumstances, a family member of a sponsor ¹ may enroll in FEDVIP even though the sponsor is not an enrollee. In these circumstances where the sponsor is not an enrollee, the TRICARE Eligible Individual (TEI) family member may accept responsibility as “TEI certifying family member” to self-certify as an enrollee. Individuals eligible for FEDVIP enroll voluntarily for dental and/or vision insurance. Eligible individuals pay 100 percent of the premium for the plan they select. Individuals have the opportunity to enroll upon entry on duty and the opportunity to enroll or change enrollment during the annual Federal Benefits Open Season or upon experiencing a qualifying life event (QLE), such as marriage or the birth of a child. Individuals eligible for FEDVIP enroll using a secure enrollment website operated by an OPM contractor.

¹ Under 5 CFR 894.101, a sponsor is defined as the individual who is eligible for medical or dental benefits under 10 U.S.C. chapter 55 based on his or her direct affiliation with the uniformed services (including members of the National Guard and Reserves), in accordance with § 894.804. The relationship to a sponsor conveys TEI status to a TEI family member.

FLTCIP is the Federal program that provides group long-term care insurance to eligible Federal and United States Postal Service employees and annuitants, active and retired members of the uniformed services, and their qualified relatives. Individuals eligible for FLTCIP pay 100 percent of the premium for the plan they select. Eligible individuals may apply at any time by completing a full underwriting application. There is no regular open season for FLTCIP enrollment. Individuals eligible for FLTCIP may apply by accessing information and application materials from a website operated by an OPM contractor and submitting an application to this contractor.

FSAFEDS is the Federal program that permits employees of the Executive Branch of the Federal Government, the United States Postal Service, and the other adopting employers of the Federal Flexible Benefits Plan (“FedFlex”) to set aside pre-tax earnings to pay for eligible health care expenses with a Health Care or Limited Expense Health Care Flexible Spending Account (FSA or LEXFSA) and to pay for eligible child care or elder care expenses with a Dependent Care FSA. Individuals have the opportunity to enroll upon entry on duty, during the annual Federal Benefits Open Season and have the opportunity to enroll or change enrollment upon experiencing a QLE, such as marriage or the birth of a child. Individuals eligible for FSAFEDS enroll using a secure enrollment website operated by an OPM contractor.

OPM uses several contractors to assist in the administration of these programs. One contractor operates BENEFEDS, an enrollment and premium processing portal (www.BENEFEDS.com and a toll-free number). BENEFEDS administers enrollment and premium payment processes for FEDVIP, administers premium payment processes for FLTCIP, and administers allotment collection for FSAFEDS. BENEFEDS is also responsible for processing billing, payment, and reconciliation tasks for these three programs. BENEFEDS communicates enrollment information directly to FEDVIP Carriers contracting with OPM to provide dental and vision insurance. BENEFEDS also communicates enrollment information to various Federal civilian and military payroll systems, OPM Retirement Services (RS), and other retirement systems for premium/allotment processing. BENEFEDS also communicates with Federal agencies, OPM RS, and other retirement systems to confirm enrollment.

OPM also uses a contractor to administer FLTCIP, including enrollment, underwriting, long-term claims processing, and maintenance of the program website (www.LTCFEDS.com and a toll-free number). OPM uses another contractor to operate the enrollment and claims processing website for FSAFEDS (www.FSAFEDS.com and a toll-free number).

The records contained in this new system of records to date have been included in OPM/Central-1, Civil Service Retirement and Insurance Records system of records (OPM/Central-1). However, OPM's organizational structure and its retirement and insurance programs have evolved, and OPM has determined that OPM/Central-1 no longer provides the public with clear and informative notice regarding the system of records, nor adequately facilitates individuals' ability to exercise their rights under the Privacy Act and OPM's ability to respond effectively.

Accordingly, OPM is in the process of regrouping the records currently contained in OPM/Central-1 and publishing the corresponding system of records notices. Additional system of records notices related to other record sets currently encompassed in OPM/Central-1 have been published or will be published separately.

FEDVIP, FLTCIP, and FSAFEDS records will now be governed through the system of records known as “OPM/CENTRAL-26 FEDVIP, FLTCIP, and FSAFEDS Records.” This newly established system of records will be included in OPM's inventory of records systems. In accordance with 5 U.S.C. 552a(r), OPM has provided a report of this system of records to Congress and to the Office of Management and Budget.

Office of Personnel Management.
Stephen Hickman,
Federal Register Liaison.

System Name and Number:

FEDVIP, FLTCIP, and FSAFEDS Records, OPM/Central-26.

SECURITY CLASSIFICATION:

Unclassified.

SYSTEM LOCATION:

Healthcare and Insurance, Office of Personnel Management, 1900 E Street NW, Washington, DC 20415, is responsible for this system of records. Records are maintained by OPM contractors in various locations. FLTCIP and FEDVIP records are maintained by a contractor in Portsmouth, New Hampshire, and FSAFEDS records are maintained by a contractor in Lexington, Kentucky.

SYSTEM MANAGER(S):

Associate Director, Healthcare and Insurance, Office of Personnel Management, 1900 E Street NW, Washington, DC 20415.

AUTHORITY FOR MAINTENANCE OF THE SYSTEM:

FEDVIP and FLTCIP are authorized by 5 U.S.C. Chapter 89A, Enhanced Dental Benefits; 5 U.S.C. Chapter 89B, Enhanced Vision Benefits; and 5 U.S.C. Chapter 90, Long Term Care Insurance. FSAFEDS is operated in accordance with the Federal Flexible Benefits Plan (“FedFlex”), which qualifies as a “cafeteria plan” under Section 125 of the Internal Revenue Code of 1986, as amended, and corresponding regulations.

PURPOSE(S) OF THE SYSTEM:

The primary purpose of this system of records is to support the administration, including enrollment confirmation, enrollment transactions, premium/allotment processing, and reconciliation, for three benefits programs administered by OPM: the Federal Employees Dental and Vision Insurance Program (FEDVIP), the Federal Long Term Care Insurance Program (FLTCIP), and the Federal Flexible Spending Account Program (FSAFEDS). In addition, the records in this system of records are used to support the evaluation of the effectiveness of these programs, including statistical analysis, policy planning, reporting, and enrollee inquiries.

CATEGORIES OF INDIVIDUALS COVERED BY THE SYSTEM:

Enrollees and their family members who are covered or have been covered under FEDVIP; applied, are covered or have been covered under FLTCIP; and individuals who are participating in or who have participated in FSAFEDS.

Individuals eligible to enroll in FEDVIP include: Federal and United States Postal Service employees and annuitants, employees of the District of Columbia courts, various groups enumerated at 5 U.S.C. 8901(1), retired members of the uniformed services, survivors of uniformed services members, and eligible family members (dental and vision); family members of active duty uniformed services members, and reserve members of the uniformed services and their eligible family members (vision only).

Individuals eligible to apply and enroll in FLTCIP include: Federal and United States Postal Service employees and annuitants, active and retired members of the uniformed services, and their qualified relatives.

Individuals eligible to participate in FSAFEDS include employees of the Executive Branch of the Federal Government, the United States Postal Service, and the other adopting employers of FedFlex.

CATEGORIES OF RECORDS IN THE SYSTEM:

a. Name, including any former names;

b. Social Security number (SSN) or other unique identification number(s);

c. Date of birth;

d. Gender;

e. Home address;

f. Work address;

g. Marital status;

h. Email address;

i. Telephone number;

j. Enrollee's employing agency;

k. Enrollee's payroll office number;

l. Enrollee's/Sponsor's Uniformed Services branch;

m. Enrollee's/Sponsor's date of death;

n. Effective date of plan coverage;

o. Medicare status (and Medicare Beneficiary Identifier) of the enrollee and any eligible family members;

p. Medicaid status of the enrollee and any eligible family members;

q. Information about other health insurance, including a plan through the Federal Employees Health Benefits (FEHB) Program, covering the enrollee and any eligible family members;

r. Information about other long-term care insurance policies in force;

s. Medical information and medical records;

t. FEDVIP plan and plan type, e.g., Self, Self Plus One, or Self and Family;

u. Health and dependent care claims information;

v. FLTCIP beneficiary information;

w. Dependent relationship to Sponsor;

x. Dependent eligibility date and eligibility end date;

y. Dependent student indicator/incapable of self-support indicator;

z. Payroll or banking information;

aa. Information necessary to verify family member eligibility including but not limited to marriage certificates, birth certificates, and other information as set forth in OPM guidance;

bb. Power of attorney designation; and

cc. Any other record related to the enrollment and account administration of eligible individuals in FEDVIP, FLTCIP, or FSAFEDS.

RECORD SOURCE CATEGORIES:

Records are obtained directly from enrollees during the enrollment process in FEDVIP and the application process in FLTCIP and directly from participants during the enrollment process in FSAFEDS. Records are also obtained from health care practitioners and health care facilities as part of the administration of FLTCIP. For purposes of enrollment confirmation and reconciliation, records are obtained from Federal agencies, OPM Retirement Services (RS), other retirement systems, FEDVIP Carriers, and the FLTCIP Carrier. For purposes of flexible spending claims processing, records are also obtained from FEDVIP and FEHB carriers.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3), as follows:

a. To the Department of Justice, including Offices of the U.S. Attorneys; another Federal agency conducting litigation or in proceedings before any court, adjudicative, or administrative body; another party in litigation before a court, adjudicative, or administrative body; or to a court, adjudicative, or administrative body. Such disclosure is permitted only when it is relevant or necessary to the litigation or proceeding, and one of the following is a party to the litigation or has an interest in such litigation:

(1) OPM, or any component thereof;

(2) Any employee or former employee of OPM in his or her official capacity;

(3) Any employee or former employee of OPM in his or her individual capacity where the Department of Justice or OPM has agreed to represent the employee;

(4) The United States, a Federal agency, or another party in litigation before a court, adjudicative, or administrative body, upon the OPM General Counsel's approval, pursuant to 5 CFR part 295 or otherwise.

b. To the appropriate Federal, State, or local agency responsible for investigating, prosecuting, enforcing, or implementing a statute, rule, regulation, or order, when a record, either on its face or in conjunction with other information, indicates or is relevant to a violation or potential violation of civil or criminal law or regulation.

c. To a member of Congress from the record of an individual in response to an inquiry made at the request of the individual to whom the record pertains.

d. To the National Archives and Records Administration (NARA) for records management inspections being conducted under the authority of 44 U.S.C. 2904 and 2906.

e. To appropriate agencies, entities, and persons when (1) OPM suspects or has confirmed that there has been a breach of the system of records; (2) OPM has determined that as a result of the suspected or confirmed breach, there is a risk of harm to individuals, OPM (including its information systems, programs, and operations), the Federal Government, or national security; and (3) the disclosure made to such agencies, entities, and persons is reasonably necessary to assist in connection with OPM's efforts to respond to the suspected or confirmed breach or to prevent, minimize, or remedy such harm.

f. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To contractors, grantees, experts, consultants, or volunteers performing or working on a contract, service, grant, cooperative agreement, or other assignment for OPM when OPM determines that it is necessary to accomplish an agency function related to this system of records. Individuals provided information under this routine use are subject to the same Privacy Act requirements and limitations on disclosure as are applicable to OPM employees.

h. To FEDVIP Carriers and the FLTCIP Carrier, information necessary to identify enrollment in a plan, change existing enrollments, cancel, and terminate enrollments, reconcile enrollment, and correct enrollment discrepancies.

i. To BENEFEDS, the enrollment information necessary for the purpose of premium processing for FEDVIP and FLTCIP and allotment processing for FSAFEDS.

j. To FSAFEDS, the claims information necessary to administer paperless reimbursement for those participants who have elected this option.

k. To any source from which information is requested, including Federal agencies and retirement systems, to establish an individual's eligibility for or enrollment in FEDVIP, FLTCIP, or FSAFEDS.

l. To Federal civilian and military payroll providers and retirement systems, the information necessary for FEDVIP and FLTCIP premium collection and for FSAFEDS allotment collection.

m. To an official of another Federal agency, uniformed services branch, or retirement system, the information needed to perform official duties related to employee benefits counseling, customer service, or operational readiness.

n. To an official of another Federal agency, information needed in the performance of official duties related to reconciling or reconstructing data files; compiling descriptive statistics; and/or making analytical studies to support the function for which the records were collected and maintained.

o. To an official of another Federal agency, information needed to adjudicate a claim for benefits under FEDVIP or the recipient's benefits program(s).

POLICIES AND PRACTICES FOR STORAGE OF RECORDS:

The records in this system of records are stored electronically. Access to the electronic systems is restricted to authorized users with a need to know. The backends of the FEDVIP, FLTICIP and FSAFEDS systems are databases hosted in a secure network environment. Any paper records received are imaged, stored electronically, and securely shredded.

POLICIES AND PRACTICES FOR RETRIEVAL OF RECORDS:

The records in this system of records are retrieved primarily by name and Social Security number but may be retrieved by any personal identifier.

POLICIES AND PRACTICES FOR RETENTION AND DISPOSAL OF RECORDS:

OPM contractors retain records for a time period no less than that described in their individual contracts. OPM is in the process of establishing a records schedule with the National Archives and Records Administration for the records in this system of records and other OPM Healthcare and Insurance records.

Until a records retention schedule is in place, records will be treated as permanent. Once that schedule is established, the method(s) for disposing of records that are no longer eligible for retention will be determined and implemented.

ADMINISTRATIVE, TECHNICAL, AND PHYSICAL SAFEGUARDS:

Records in this system are protected from unauthorized access and misuse through various administrative, technical, and physical security measures. The security measures utilized by OPM and OPM's contractors are in compliance with the Federal Information Security Modernization Act (Pub L. 113-203), associated OMB policies, and applicable standards and guidance from the National Institute of Standards and Technology (NIST).

RECORD ACCESS PROCEDURES:

Individuals seeking notification of and access to their records in this system of records may do so as follows:

a. In some circumstances, individuals may be able to locate and access their records directly through the secure websites maintained by or the customer service assistance offered by the OPM contractors operating the enrollment systems for FEDVIP, FLTCIP, and FSAFEDS.

b. Individuals may also submit a request in writing to the Office of Personnel Management, Office of Privacy and Information Management—FOIA, 1900 E Street NW, Room 5415, Washington, DC 20415-7900 or by emailing foia@opm.gov; ATTN: Healthcare and Insurance. Individuals must furnish the following information for their records to be located:

1. Full name, including any former name.

2. Date of birth.

3. Social Security number.

4. Name and address of employing agency, uniformed services branch, or retirement system.

5. Reasonable specification of the requested information.

6. The address to which the information should be sent.

7. Signature.

Individuals requesting access must also comply with OPM's Privacy Act regulations regarding verification of identity and access to records (5 CFR 297). Enrollees who request access to their records will have access to the entirety of their record, to include information about all covered individuals who are part of their enrollment record. Family members who request access to their records may have access only to their own information and not to that of the enrollee or other covered family members.

CONTESTING RECORD PROCEDURES:

Individuals wishing to request amendment of their records in this system of records may do so by writing to the to the Office of Personnel Management, Office of Privacy and Information Management—FOIA, 1900 E Street NW, Room 5415, Washington, DC 20415-7900 or by emailing foia@opm.gov; ATTN: Healthcare and Insurance. Requests for amendment of records should include the words “PRIVACY ACT AMENDMENT REQUEST” in capital letters at the top of the request letter; if emailed, please include those words in the subject line. Individuals must furnish the following information for their records to be located:

1. Full name, including any former name.

2. Date of birth.

3. Social Security number.

4. Name and address of employing agency, uniformed services branch, or retirement system.

5. Precise identification of the information to be amended.

7. Signature.

Individuals requesting amendment of their records must also comply with OPM's Privacy Act regulations regarding verification of identity and access to records (5 CFR 297). OPM may refer amendment requests to other entities when those entities are the original source of the record.

NOTIFICATION PROCEDURES:

See “Record Access Procedures”

EXEMPTIONS PROMULGATED FOR THE SYSTEM:

None.

HISTORY:

OPM/Central-1, “Civil Service Retirement and Insurance Records”, 73 FR 15013 (March 20, 2008), 80 FR 74815 (November 30, 2015).

[FR Doc. 2022-13216 Filed 6-17-22; 8:45 am]

BILLING CODE 6325-64-P